DEPARTMENT OF DEFENSE

[OMB Control Number 0704-0248]

Information Collection Requirement; Defense Federal Acquisition Regulation Supplement; Material Inspection and Receiving Report

AGENCY: Department of Defense (DoD).

ACTION: Notice and request for comments regarding a proposed extension of an approved information collection requirement.

SUMMARY: In compliance with section 3506(c)(2)(A) of the Paperwork Reduction Act of 1995 (44 U.S.C. chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection requirement for use through October 31, 2004. DoD proposes that OMB extend its approval for use through October 31, 2007.

DATES: DoD will consider all comments received by October 1, 2004.

ADDRESSES: You may submit comments, identified by OMB Control Number 0704-0248, using any of the following methods:

• Defense Acquisition Regulations Web site: http://emissary.acq.osd.mil/dar/dfars.nsf/pubcomm. Follow the instructions for submitting comments.

• E-mail: dfars@osd.mil. Include OMB Control Number 0704-0248 in the subject line of the message.

• Fax: Primary: (703) 602-7887; Alternate: (703) 602-0350.

• Mail: Defense Acquisition Regulations Council, Attn: Mr. Steven Cohen, OUSD(AT&L)DPAP(DAR), IMD 3C132, 3062 Defense Pentagon, Washington, DC 20301-3062.

• Hand Delivery/Courier: Defense Acquisition Regulations Council, Crystal Square 4, Suite 200A, 241 18th Street, Arlington, VA 22202-3402.

All comments received will be posted to http://emissary.acq.osd.mil/dar/dfars.nsf.

FOR FURTHER INFORMATION CONTACT: Mr. Steven Cohen, (703) 602-0293. The information collection requirements addressed in this notice are available electronically on the Internet at: http://www.acq.osd.mil/dpap/dfars/index.htm. Paper copies are available from Mr. Steven Cohen, OUSD(AT&L)DPAP(DAR), IMD 3C132, 3062 Defense Pentagon, Washington, DC 20301-3062.

SUPPLEMENTARY INFORMATION: Title, Associated Forms, and OMB Number: Defense Federal Acquisition Regulation Supplement (DFARS) Appendix F, Material Inspection and Receiving Report; DD Form 250, DD Form 250c, DD Form 250-1; OMB Control Number 0704-0248.

Needs and Uses: Collection of this information is necessary to process the shipping and receipt of materials and payment to contractors under DoD contracts.

Affected Public: Businesses or other for-profit and not-for-profit institutions.

Annual Burden Hours: 344,500.

Number of Respondents: 34,180.

Responses Per Respondent: 228.

Annual Responses: 7,800,000.

Average Burden Per Response: Approximately 3 minutes.

Frequency: On occasion.

Summary of Information Collection

This information collection includes the requirements of DFARS Appendix F, Material Inspection and Receiving Report; the related clause at DFARS 252.246-7000, Material Inspection and Receiving Report; and DD Forms 250, 250c, and 250-1. The clause at DFARS 252.246-7000 is used in contracts that require separate and distinct deliverables. The clause requires the contractor to prepare and furnish to the Government a material inspection and receiving report (DD Form 250) in a manner and to the extent required by DFARS Appendix F. The information in the report is required for material inspection and acceptance, shipping, and payment. The contractor may submit the information by using the Wide Area WorkFlow-Receipt and Acceptance electronic form.

Michele P. Peterson,
Executive Editor, Defense Acquisition Regulations Council.

[FR Doc. 04-17472 Filed 7-30-04; 8:45 am]

BILLING CODE 5001-08-P